DEPARTMENT OF DEFENSE

Department of the Army

[Docket ID: USA-2015-0001]

Proposed Collection; Comment Request

AGENCY: Army & Air Force Exchange Service (Exchange), DoD.

ACTION: Notice.

SUMMARY: In compliance with the Paperwork Reduction Act of 1995, the Army & Air Force Exchange Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 9, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army and Air Force Exchange Service, Office of the General Counsel, Compliance Division, Attn: Teresa Schreurs, 3911 South Walton Walker Blvd., Dallas, TX 75236-1598 or call the Exchange Compliance Division at 800-967-6067.

SUPPLEMENTARY INFORMATION: Title; Associated Form; and OMB Number: Exchange Employee Pay System Records; Exchange Form 1200-021 “Request for Separate Maintenance Allowance (SMA)”, Exchange From 1200-006 “Pre-Employment Screening Applicant Consent Form”, Exchange Form 1100-016 “Identification & Privilege Card Application”, Exchange-Europe Form 1100-727 “Eligibility Questionnaire for HPP Status and Logistical Support Entitlement”, Exchange-Europe Form 1200-729 “Personal Data Sheet”; OMB Control Number: 0702-XXXX.

Needs and Uses: The information collection requirement is necessary to provide a basis for computing civilian pay entitlements and to keep a record of the history of pay transactions. Information collected is necessary to accurately accrue civilian's correct leave, benefits, retirement and pay, issue bonds, pay taxes, and to keep the Exchange compliant with court orders such as Qualifying Domestic Relations Orders which obligate the Exchange to pay benefits to ex-spouses or other Exchange employee(s) or ex-employee(s), and the ability to answer any inquires to process such claims. These uses require the collection of the individual's names, SSN, address, email address, telephone numbers and a copy of any court orders submitted to the Exchange.

Affected Public: Exchange employee family members, and former spouses.

Annual Burden Hours: 65,000.

Number of Respondents: 260,000.

Responses per Respondent: 1.0.

Average Burden per Response: 15 minutes.

Frequency: On occasion.

Respondents are Exchange terminated employees, retired employees, employee beneficiaries, and contractors who are actively working with the exchange. These individuals submit information to the Exchange primarily through electronic means so the Exchange may pay them appropriately for their time and accurately provide them with benefits and leave.

Dated: January 2, 2015.
Aaron Siegel,
Alternate OSD Federal Register Liaison Officer, Department of Defense.

[FR Doc. 2015-00008 Filed 1-6-15; 8:45 am]

BILLING CODE 5001-06-P